DEPARTMENT OF THE INTERIOR

Fish and Wildlife Service

[Docket No. FWS-R8-ES-2019-0064; FXES11140900000 190]

Endangered and Threatened Species; Receipt of an Incidental Take Permit Application and Low-Effect Habitat Conservation Plan for the Desert Tortoise; High Desert Power Project, San Bernardino County, California

AGENCY: Fish and Wildlife Service, Interior.

ACTION: Notice of availability; request for comments.

SUMMARY: We, the U.S. Fish and Wildlife Service, have received an application for an incidental permit to take federally listed fish or wildlife species. We invite comments on this application, which we will take into consideration before issuing an incidental take permit.

DATES: To ensure consideration, please submit your written comments by August 21, 2019.

ADDRESSES: Obtaining Documents: The documents this notice announces, as well as any comments and other materials that we receive, will be available for public inspection online in Docket No. FWS-R8-ES-2019-0064 at http://www.regulations.gov.

Submitting Comments: You may submit comments by one of the following methods:

• Online: http://www.regulations.gov. Follow the instructions for submitting comments on Docket No. FWS-R8-ES-2019-0064.

• U.S. mail or hand-delivery: Public Comments Processing, Attn: Docket No. FWS-R8-ES-2019-0064; U.S. Fish and Wildlife Service, MS: JAO/1N; 5275 Leesburg Pike, Falls Church, VA 22041-3803.

We request that you send comments by only the methods described above.

FOR FURTHER INFORMATION CONTACT: Raymond Bransfield, Fish and Wildlife Biologist, Palm Springs Fish and Wildlife Office, by phone at 805-677-3398 or via email at ray_bransfield@fws.gov. If you use a telecommunications device for the deaf, hard-of-hearing, or speech disabled, please call the Federal Relay Service at 800-877-8339.

SUPPLEMENTARY INFORMATION: We have received an application for an incidental take permit under the Endangered Species Act of 1973, as amended (ESA; 16 U.S.C. 1531 et seq.). The application addresses the potential for take of a threatened species that is likely to occur incidental to the otherwise lawful activity as described in the applicant's habitat conservation plan.

Background

Section 9 of the ESA and Federal regulations pursuant to section 4(d) of the ESA prohibit the take of endangered and threatened species, respectively, without special exemption (16 U.S.C. 1538; 50 CFR 17.31). Under section 10(a)(1)(B) of the ESA (16 U.S.C. 1539), we may issue permits to authorize take of listed fish and wildlife species that is incidental to, and not the purpose of, carrying out an otherwise lawful activity. Regulations governing permits for endangered and threatened species are set forth in title 50 of the Code of Federal Regulations at part 17, sections 17.22 and 17.32.

The National Environmental Policy Act (NEPA; 42 U.S.C. 4321 et seq.) requires Federal agencies to analyze their proposed actions to determine whether the actions may significantly affect the human environment. In the NEPA analysis, the Federal agency will identify direct, indirect, and cumulative effects, as well as possible mitigation for effects on environmental resources that could occur with implementation of the proposed action and alternatives. The Federal action in this case is the Service's proposed issuance of an incidental take permit.

Permit Application

We invite comments on the following application.

Applicant, city, state | Species | Location | Activity | Type of take (amount of take over term) | Project's actions to minimize and mitigate for take
HDSI, LLC, Chicago, Illinois | Mojave desert tortoise (Gopherus agassizii) | Victorville, California | Construction, operation, maintenance, and decommissioning of a photovoltaic solar power facility and management of conserved lands | Approximately 10 large desert tortoises at the solar site. Take (capture) to translocate; kill or wound no more than three if they are not detected prior to work | Minimize by translocation of tortoises to superior habitat. Mitigate by acquiring private lands within the boundaries of critical habitat and managing these lands for long-term conservation.

Our Preliminary Determination

The Service has made a preliminary determination that issuance of the incidental take permit is not a major Federal action that will significantly affect the quality of the human environment within the meaning of section 102(2)(C) of the National Environmental Policy Act (NEPA; 42 U.S.C. 4321 et seq.). The Service has also made a preliminary determination that it individually or cumulatively will not have more than a negligible effect on the species covered in the habitat conservation plan.

Therefore, the permit qualifies for a categorical exclusion under NEPA.

Public Availability of Comments

All comments and materials we receive in response to this request will be available for public review at http://www.regulations.gov.

Before including your address, phone number, email address, or other personal identifying information in your comment, you should be aware that your entire comment—including your personal identifying information—may be made publicly available at any time. While you can ask us in your comment to withhold your personal identifying information from public review, we cannot guarantee that we will be able to do so.

Next Steps

We will publish a notice in the Federal Register when we have made a determination with regard to issuance of the incidental take permit.

Authority

We issue this notice pursuant to section 10(c) of the ESA (16 U.S.C. 1531 et seq.) and its implementing regulations (50 CFR 17.22 and 17.32), and the National Environmental Policy Act (42 U.S.C. 4321 et seq.) and its implementing regulations (40 CFR 1506.6 and 43 CFR 46.305).

Scott Sobiech,
Acting Field Supervisor, Carlsbad Fish and Wildlife Office, Carlsbad, California.

[FR Doc. 2019-15494 Filed 7-19-19; 8:45 am]

BILLING CODE 4333-15-P